INTERNATIONAL TRADE COMMISSION

[Investigation No. 337-TA-1404]

Certain Surface Cleaning Devices and Components Thereof; Notice of Institution of Investigation

AGENCY: U.S. International Trade Commission.

ACTION: Notice.

SUMMARY: Notice is hereby given that a complaint was filed with the U.S. International Trade Commission on April 23, 2024, under section 337 of the Tariff Act of 1930, as amended, on behalf of SharkNinja Operating LLC of Needham, Massachusetts, Omachron Alpha Inc. of Canada, and Omachron Intellectual Property Inc. of Canada. A supplement to the complaint was filed on May 9, 2024. An amended complaint was filed on May 16, 2024, and supplemented on May 23, 2024. The amended complaint, as supplemented, alleges violations of section 337 based upon the importation into the United States, the sale for importation, and the sale within the United States after importation of certain surface cleaning devices and components thereof by reason of the infringement of certain claims of U.S. Patent No. 7,776,120 (“the '120 patent”); U.S. Patent No. 10,219,661 (“the '661 patent”); U.S. Patent No. 11,903,546 (“the '546 patent”); U.S. Patent No. 11,910,983 (“the '983 patent”); and U.S. Patent No. 11,910,984 (“the '984 patent”). The amended complaint further alleges that an industry in the United States exists or is in the process of being established as required by the applicable Federal Statute. The complainants request that the Commission institute an investigation and, after the investigation, issue a limited exclusion order and cease and desist orders.

ADDRESSES: The amended complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Heidi Yoo, The Office of the Secretary, Docket Services Division, U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2024).

Scope of Investigation: Having considered the amended complaint, the U.S. International Trade Commission, on June 7, 2024, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1, 7-9, 12, 14, and 15 of the '120 patent; claims 1-5, 8-12, 15, and 16 of the '661 patent; claims 10 and 15 of the '546 patent; claims 1, 4, 6-8, 12, and 17-19 of the '983 patent; and claims 1-18 of the '984 patent; and whether an industry in the United States exists or is in the process of being established as required by subsection (a)(2) of section 337;

(2) Pursuant to section 210.10(b)(1) of the Commission's Rules of Practice and Procedure, 19 CFR 210.10(b)(1), the plain language description of the accused products or category of accused products, which defines the scope of the investigation, is “stick and handheld vacuum cleaners, along with wands, cleaner heads, tool kits, and attachments”;

(3) For the purpose of the investigation so instituted, the following are hereby named as parties upon which this notice of investigation shall be served:

(a) The complainants are:

SharkNinja Operating LLC, 89 A Street, Suite 100, Needham, MA 02494

Omachron Alpha Inc., 9 King Lane, P.O. Box 130, Hampton, ON L0B 1J0, Canada

Omachron Intellectual Property Inc., 9 King Lane, P.O. Box 130, Hampton, ON L0B 1J0, Canada

(b) The respondents are the following entities alleged to be in violation of section 337, and are the parties upon which the amended complaint is to be served:

Dyson, Inc., 1330 W Fulton Street, 5th Floor, Chicago, IL 60607

Dyson Technology Limited, Tetbury Hill, Malmesbury, Wiltshire, SN16 0RP, United Kingdom

Dyson Canada Limited, 8 Spadina Avenue, Suite 2200, Toronto, ON M5V 058, Canada

(4) For the investigation so instituted, the Chief Administrative Law Judge, U.S. International Trade Commission, shall designate the presiding Administrative Law Judge.

The Office of Unfair Import Investigations will not participate as a party in this investigation.

Responses to the amended complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: June 7, 2024.
Lisa Barton,
Secretary to the Commission.

[FR Doc. 2024-12892 Filed 6-12-24; 8:45 am]

BILLING CODE 7020-02-P